DEPARTMENT OF TRANSPORTATION

Federal Motor Carrier Safety Administration

[Docket No. FMCSA-2020-0081]

Inspection, Repair and Maintenance; Inspector Qualifications; Intermodal Association of North America (IANA) Application for Renewal of Exemption

AGENCY: Federal Motor Carrier Safety Administration (FMCSA), DOT.

ACTION: Notice of application for exemption renewal; request for comments.

SUMMARY: FMCSA requests public comment on an application from the Intermodal Association of North America (IANA) to renew its exemption from the Federal Motor Carrier Safety Regulations (FMCSRs) that allows individuals who complete a training program consistent with IANA's Intermodal Recommended Practices (IRPs) to be considered qualified inspectors for purposes of the periodic inspection rule, or qualified brake inspectors for purposes of the brake system inspection, repair and maintenance requirements. The exemption was initially granted on August 18, 2020, and expires on August 18, 2025.

DATES: Comments must be received on or before July 31, 2025.

ADDRESSES: You may submit comments identified by Docket Number FMCSA-2020-0081 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2020-0081) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Mr. David Sutula, Chief, FMCSA Vehicle and Roadside Operations Division, Office of Carrier, Driver, and Vehicle Safety Standards; (202) 366-2551; MCPSV@dot.gov. If you have questions on viewing or submitting material to the docket, call Dockets Operations at (202) 366-9826.

SUPPLEMENTARY INFORMATION:

I. Public Participation and Request for Comments

FMCSA encourages you to participate by submitting comments and related materials.

A. Submitting Comments

If you submit a comment, please include the docket number for this notice (FMCSA-2020-0081), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2020-0081/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin brian.g.dahlin@dot.gov, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov, insert FMCSA-2020-0081 in the keyword box, select the document tab and choose the document to review. To view comments, click this notice, then click “Browse Comments.” If you do not have access to the internet, you may view the docket by visiting Docket Operations on the ground floor of the DOT West Building, 1200 New Jersey Avenue SE., Washington, DC 20590-0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely maintain a level of safety equivalent to, or greater than, the level that would be achieved absent such exemption, pursuant to the standard in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. IANA Application for Exemption

The FMCSRs require individuals performing (1) annual inspections of commercial motor vehicles (CMVs) under 49 CFR 396.17, or (2) inspections, maintenance, repairs, or service to the brake systems on CMVs under § 396.25, to be properly qualified to perform such inspections. Under §§ 396.19(a)(3)(ii) and 396.25(d)(3)(ii), an individual who has a combination of training or experience totaling at least one year as outlined in those sections is considered to be qualified to conduct those inspections.

On August 18, 2020 (85 FR 50876), FMCSA published a notice of final disposition granting IANA a limited 5-year exemption to allow individuals who complete a training program consistent with a set of Intermodal Recommended Practices (IRPs) and associated requirements that has been developed by IANA to be considered a qualified inspector or qualified brake inspector for intermodal equipment (IME) under the Federal Motor Carrier Safety Regulations (FMCSR), in lieu of having one year of training or experience, or a combination thereof, prior to becoming a certified inspector/brake inspector. The Agency determined that granting the exemption to allow individuals who complete a performance-based training program consistent with the IRPs and associated requirements developed by IANA, instead of the time-based training and experience requirements specified in the FMCSRs, would likely achieve a level of safety equivalent to or greater than the level of safety achieved by compliance with the regulation.

IANA has requested the renewal of its exemption to continue to allow individuals who have successfully completed a training program consistent with IANA's IRPs to be qualified inspectors or qualified brake inspectors without having the required one year of training or experience. A copy of the application for renewal is included in the docket referenced at the beginning of this notice.

IV. Request for Comments

In accordance with 49 U.S.C. 31315(b), FMCSA requests public comment from all interested persons on IANA's application for exemption from 49 CFR 396.19(a)(3)(ii) and 396.25(d)(3)(ii) of the FMCSRs. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator of Policy.

[FR Doc. 2025-12203 Filed 6-30-25; 8:45 am]

BILLING CODE 4910-EX-P